GENERAL SERVICES ADMINISTRATION

[Notice-PBS-2020-03; Docket No. 2020-0002; Sequence No. 11]

Notice of Availability of the Revised Draft Environmental Impact Statement for the Expansion and Modernization of the San Luis I Land Port of Entry, San Luis, Arizona

AGENCY: Public Building Service (PBS), General Services Administration (GSA).

ACTION: Notice of availability.

SUMMARY: This notice announces the availability, and opportunity for public review and comment, of the revised Draft Environmental Impact Statement (DEIS), which analyzes the potential environmental impacts of a proposal by the General Services Administration (GSA) to expand and modernize the San Luis I Land Port of Entry (LPOE) located in San Luis, Arizona along the U.S.-Mexico international border. During the draft EIS review period in April 2019, multiple comments were received, including one comment which identified a new alternative to be included in the analysis. Therefore, GSA determined that the Draft EIS would be re-released for public review that includes the new alternative. The revised DEIS describes the project purpose and need, the alternatives being considered, and the potential impacts of each alternative on the existing environment. As the lead agency for this undertaking, GSA is acting on behalf of its major tenant at the facility, the Department of Homeland Security's U.S. Customs and Border Protection (CBP).

DATES: Due to the COVID-19 outbreak, the public comment period will be extended to 90 days (Friday, April 3, 2020 through Thursday, July 2, 2020). The date and location of the public meeting will be determined at a later date and an additional notice will be published with the meeting details.

ADDRESSES: An electronic copy of the revised DEIS and the 2019 DEIS may be found online on the following website: https://www.gsa.gov/about-us/regions/welcome-to-the-pacific-rim-region-9/land-ports-of-entry/san-luis-i-land-port-of-entry.

FOR FURTHER INFORMATION CONTACT: Questions or comments concerning this project should be directed to: Osmahn Kadri, Regional Environmental Quality Advisor/NEPA Project Manager, GSA, at 415-522-3617, or via email to osmahn.kadri@gsa.gov. Written comments can be mailed to: GSA San Luis EIS, c/o LMI, 7940 Jones Branch Drive, Tysons, VA 22102.

SUPPLMENTARY INFORMATION:

Background

The San Luis I LPOE is located on the U.S.-Mexico international border in the City of San Luis, Arizona. It is the westernmost LPOE in Arizona and is approximately four miles from the California border. The San Luis I LPOE was built in 1982 to accommodate noncommercial traffic to and from Mexico. The facilities at the LPOE are in deteriorated condition and are inadequate for the present volume of pedestrian and vehicle traffic. There has been a 58 percent increase in the number of personal vehicles processed since 2010. The higher volume and outdated facilities creates long wait times, leading to traffic backups in downtown San Luis.

GSA is proposing to expand and modernize the San Luis I LPOE to correct operational deficiencies imposed by deteriorating building conditions and improve the LPOE's functionality, capacity, and security. Four alternatives, the Proposed Action Alternative, Alternative 1, Alternative 2, and the No Action Alternative, are evaluated in the revised DEIS. Alternative 2 was added to the revised DEIS as a result of a comment received on the 2019 DEIS.

Proposed Action Alternative—Demolition and Redevelopment

GSA would acquire the land adjacent to the western end of the LPOE, the former Friendship Park, and the LPOE would be reconfigured to streamline CBP operations and inspection processes. GSA would demolish the old, deteriorated buildings and construct new buildings and infrastructure on the expanded site to accommodate the increasing volume of pedestrian and vehicle traffic. The Proposed Action would be implemented in a phased approach to alleviate potential disruptions to operations at the LPOE.

Alternative 1—Renovate and Modernize

GSA would not acquire former Friendship Park, but would renovate and modernize all existing facilities and infrastructure at the LPOE. The LPOE layout would remain as currently configured, and current traffic patterns entering and leaving the LPOE would remain the same.

Alternative 2—Relocate Southbound Exit

GSA would acquire Friendship Park and construct new facilities as described under the Proposed Action, however the outgoing traffic would be routed directly south from Archibald Street to Avenida Morelos in Mexico. The rerouting of southbound traveling vehicles directly south from Archibald Street would alleviate the need for vehicles to turn left onto Urtuzuastegui Street.

No Action Alternative

GSA would not renovate or modernize any portion of the LPOE. The LPOE would remain as-is and continue its operations in facilities as they are currently configured.

Public Meeting

The date and location of the public meeting will be determined at a later date and an additional notice will be published with that information. Comments must be received by July 2, 2020, via email to osmahn.kadri@gsa.gov or sent to the address listed above.

Jared Bradley,
Director, Portfolio Management Division, Pacific Rim Region, Public Buildings Service.

[FR Doc. 2020-06669 Filed 3-30-20; 8:45 am]

BILLING CODE 6820-YF-P